DEPARTMENT OF COMMERCE

National Oceanic and Atmospheric Administration

RIN 0648-XG283

North Pacific Fishery Management Council (NPFMC); Public Meeting

AGENCY: National Marine Fisheries Service (NMFS), National Oceanic and Atmospheric Administration (NOAA), Commerce.

ACTION: Notice of public meeting.

SUMMARY: The North Pacific Fishery Management Council (Council) will host an Assessment Methods Workshop in June.

DATES: The meeting will be held on Wednesday, June 27, 2018, from 8 a.m. to 5 p.m. and on Thursday, June 28, 2018, from 8 a.m. to 5 p.m.

ADDRESSES: The meeting will be held in the Traynor Room, Building 4 at the Alaska Fisheries Science Center, 7700 Sand Point Way NE, Seattle, WA 98115. Teleconference number: 1-877-953-3919 (PP: 5944500).

Council address: North Pacific Fishery Management Council, 605 W 4th Ave., Suite 306, Anchorage, AK 99501-2252; telephone (907) 271-2809.

FOR FURTHER INFORMATION CONTACT: Diana Stram, Council staff; telephone: (907) 271-2801.

SUPPLEMENTARY INFORMATION:

Agenda

Wednesday, June 27 and Thursday, June 28, 2018

The workshop will review ensemble stock assessment modeling and evaluate how it fits in the NPFMC system. To also discuss considerations for potentially reducing an ABC from the maximum to account for observations and uncertainties not included in the assessment model or Tier system; and produce recommendations and a report to be considered by the September Joint Groundfish Plan Team. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: June 8, 2018.
Rey Israel Marquez,
Acting Deputy Director, Office of Sustainable Fisheries, National Marine Fisheries Service.

[FR Doc. 2018-12688 Filed 6-12-18; 8:45 am]

BILLING CODE 3510-22-P